DEPARTMENT OF THE INTERIOR

National Park Service

[2280-665]

National Register of Historic Places; Notification of Pending Nominations and Related Actions

Nominations for the following properties being considered for listing or related actions in the National Register were received by the National Park Service before January 15, 2011. Pursuant to sections 60.13 or 60.15 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington DC 20005; or by fax, 202-371-6447. Written or faxed comments should be submitted by March 17, 2011.

Before including your address, phone number, e-mail address, or other personal identifying information in your comment, you should be aware that your entire comment—including your personal identifying information—may be made publicly available at any time. While you can ask us in your comment to withhold your personal identifying information from public review, we cannot guarantee that we will be able to do so.

Paul Loether,
Chief, National Register of Historic Places/National Historic Landmarks Program.

ARIZONA

La Paz County

Hi Jolly Monument,

(Pyramidal Monuments in Arizona MPS)

N end of Cemetery Rd,

Quartzsite, 11000054

DISTRICT OF COLUMBIA

District of Columbia

Peirce—Klingle Mansion (Boundary Increase),

3545 Williamsburg Ln N.W.,

Washington, 11000071

HAWAII

Hawaii County

Henderson, Walter Irving and Jean, House,

(Halaulani Place, 1917-1960 MPS)

82 Halaulani Place,

Hilo, 11000057

Lyman, Levi and Nettie, House,

(Halaulani Place, 1917-1960 MPS)

40 Halaulani Pl,

Hilo, 11000059

McGuinness, Patrick and Ethel, House,

(Halaulani Place, 1917-1960 MPS)

30 Halaulani Pl,

Hilo, 11000061

Moses, Edward H. and Claire, House,

(Halaulani Place, 1917-1960 MPS)

105 Halaulani Pl,

Hilo, 11000056

Parker, James and Catherine, House,

(Halaulani Place, 1917-1960 MPS)

72 Halaulani Pl,

Hilo, 11000058

Truslow, Herbert Austin, House,

(Halaulani Place, 1917-1960 MPS)

52 Halaulani Pl,

Hilo, 11000060

Hill, W.H., House,

(Halaulani Place, 1917-1960 MPS)

91 Halaulani Place,

Hilo, 11000055

ILLINOIS

Cook County

Greeley, Dr. Paul W. and Eunice, House,

545 Oak St,

Winnetka, 11000048

IOWA

Adair County

Hotel Greenfield,

110 E Iowa St,

Greenfield, 11000050

Dubuque County

Schroeder—Klein Grocery Company Warehouse,

(Dubuque, Iowa MPS)

40-48 Main St,

Dubuque, 11000051

Washington Street and East 22nd Street Historic District,

(Dubuque, Iowa MPS)

2162-2255 Washington St and E 22nd St,

Dubuque, 11000052

Woodbury County

Grandview Park Music Pavilion,

Sits to the E of McDonald St—Entrance in 2600 block of McDonald St,

Sioux City, 11000053

MASSACHUSETTS

Worcester County

Hadley Furniture Company Building,

651-659 Main St,

Worcester, 11000068

West Brick School,

1592 Old Turnpike Rd,

Oakham, 11000070

MINNESOTA

Middlesex County

Grace Universalist Church,

44 Princeton Boulevard,

Lowell, 11000069

OREGON

Columbia County

Heimuller, John and Carolena, Farmstead,

32600 SW J.O. West Rd,

Scappoose, 11000049

VIRGINIA

Danville Independent City

Schoolfield Welfare Building,

917 W Main St,

Danville, 11000064

Frederick County

High Banks,

423 High Banks Rd,

Stephenson, 11000066

Grayson County

Spring Valley Rural Historic District,

Route 805; Route 604; Route 651 in the Spring Valley community,

Fries, 11000062

Loudoun County

Hibbs Bridge,

SR 734 6 mi NW of Aldie between Hibbs Bridge Rd (SR 731 W) to the S and

Watermill Rd (SR 731 E) to the N,

Mountville, 11000067

Mathews County

Lane Hotel, The,

68 Church St,

Mathews, 11000065

Prince William County

Old Town Hall and School,

15025 Washington St,

Haymarket, 11000063

[FR Doc. 2011-4670 Filed 3-1-11; 8:45 am]

BILLING CODE 4312-51-P